DEPARTMENT OF VETERANS AFFAIRS

Veterans' Family, Caregiver and Survivor Advisory Committee, Notice of Meeting

The Department of Veterans Affairs (VA) gives notice under the Federal Advisory Committee Act (FACA), 5 U.S.C. App. 2, that the Veterans' Family, Caregiver and Survivor Advisory Committee will meet virtually on Friday, October 28, 2022. The meeting session will begin and end as follows:

Date | Time
October 28, 2022 | 12 to 3 p.m. Eastern Standard Time (EST).

The meeting is open to the public and will be conducted using Microsoft Teams. Please email VEOFACA@va.gov for an invitation link prior to October 26, 2022 or dial-in by phone (for audio only) 1-872-701-0185, United States, Chicago (Toll), Conference ID: 324 931 743#.

The purpose of the Committee is to advise the Secretary of Veterans Affairs on matters related to: the need of Veterans' families, caregivers and survivors across all generations, relationships and Veterans status; the use of VA care, benefits and memorial services by Veterans' families, caregivers and survivors, and opportunities for improvements to the experience using such services; VA policies, regulations and administrative requirements related to the transition of Servicemembers from the Department of Defense (DoD) to enrollment in VA that impact Veterans' families, caregivers and survivors; and factors that influence access to, quality of and accountability for services, benefits and memorial services for Veterans' families, caregivers and survivors.

On October 28, 2022, the agenda will include opening remarks from the Committee Chair and the Chief Veterans Experience Officer. There will be presentations to include updates from the Caregiver Support Program, the status of COVID-19 on the military and Veteran families, caregivers and survivors; and, the PACT Act update. The Committee will also discuss suggested recommendations that will be presented by the subcommittee Chairs.

Individuals wishing to share information with the Committee should contact the VEO Federal Advisory Committee Team at VEOFACA@va.gov to submit a 1-2 page summary of their comments for inclusion in the official meeting record before October 26, 2022 at 5 p.m. (EST). Due to the time limitations of virtual meetings, public comments will be submitted prior to the meeting and distributed to the Committee before the designated meeting time on October 28, 2022.

Any member of the public seeking additional information should contact Betty Moseley Brown (Designated Federal Official) Betty.MoseleyBrown@va.gov or 210-392-2505.

Dated: September 29, 2022.
Jelessa M. Burney,
Federal Advisory Committee Management Officer.

[FR Doc. 2022-21556 Filed 10-4-22; 8:45 am]

BILLING CODE P